DEPARTMENT OF TRANSPORTATION

Federal Highway Administration

Notice of Final Federal Agency Actions on Proposed Highway in California

AGENCY: Federal Highway Administration (FHWA), DOT.

ACTION: Notice of Limitation on Claims for Judicial Review of Actions by the FHWA, California Department of Transportation (Caltrans), pursuant to 23 U.S.C. 327, and the US Fish and Wildlife Service, and National Marine Fisheries Service.

SUMMARY: The FHWA is issuing this notice to announce actions taken by FHWA, U.S. Fish and Wildlife Service, and National Marine Fisheries Service that are final within the meaning of U.S. Code. The actions relate to a proposed highway project, US Route 101 between Eureka and Arcata in the County of Humboldt, State of California. Those actions grant licenses, permits, and approvals for the project.

DATES: By this notice, the FHWA is advising the public of final agency actions subject to 23 U.S.C. 139(l)(1). A claim seeking judicial review of the Federal agency actions on the highway project will be barred unless the claim is filed on or before December 14, 2017. If the Federal law that authorizes judicial review of a claim provides a time period of less than 150 days for filing such claim, then that shorter time period still applies.

FOR FURTHER INFORMATION CONTACT:

Dave Tedrick, Senior Environmental Specialist, FHWA, 650 Capitol Mall, Suite 4-100, Sacramento, CA 95814, (916) 498-5025, david.tedrick@dot.gov.

Rosalind Litzky, Senior Environmental Planner, Caltrans, 1656 Union Street, Eureka, CA 95501, (707) 445-5222, rosalind.litzky@dot.ca.gov.

Jeffery Jahn, N.O.A.A. National Marine Fisheries Service, 1655 Heindon Road, Arcata, California 95521, (707) 825-5173, Jeffrey.Jahn@NOAA.GOV.

Greg Schmidt, U.S. Fish and Wildlife Service, 1655 Heindon Road, Arcata, California 95521, (707) 822-7201, Gregory_Schmidt@fws.gov.

SUPPLEMENTARY INFORMATION: Notice is hereby given that the FHWA, Caltrans, U.S. Fish and Wildlife Service, and National Marine Fisheries Service have taken final agency actions subject to 23 U.S.C. 139(l)(1) by issuing licenses, permits, and approvals for the following highway project in the State of California: The proposed Eureka-Arcata Route 101 Corridor Improvement Project consists of various improvements on Route 101 between the Eureka Slough Bridge and the 11th St. overcrossing in Arcata. Major project features may include closing roadway median crossings, constructing a roadway grade separation at Indianola Cutoff, replacing the southbound Jacoby Creek Bridge, and partially or fully signalizing the Route 101/Airport Road intersection. The purpose of the project is to improve safety; reduce operational conflicts and delay; and rehabilitate roadway to meet current traffic engineering design standards as feasible. The actions by the Federal agencies, and the laws under which such actions were taken, are described in the Final Environmental Impact Statement (FEIS) for the project, approved on December 20, 2016, in the FHWA Record of Decision (ROD) issued on July 3, 2017, and in other documents in the FHWA project records. The FEIS, ROD, and other project records are available by contacting Caltrans at the addresses provided above. The FHWA FEIS and ROD can be viewed and downloaded from the project Web site at http://www.dot.ca.gov/dist1/d1projects/eureka_arcata/reports.htm, or viewed at public libraries in the project area.

The U.S. N.O.A.A National Marine Fisheries consultation and Letter of Concurrence are available by contacting U.S. N.O.A.A National Marine Fisheries at the address provided above.

The U.S. Fish and Wildlife Service consultation and Biological Opinion are available by contacting the U.S. Fish and Wildlife Service at the address provided above.

This notice applies to all Federal agency decisions as of the issuance date of this notice and all laws under which such actions were taken, including but not limited to:

1. General: National Environmental Policy Act (NEPA) [42 U.S.C. 4321-4351]; Federal Aid Highway Act; [23 U.S. C109].

2. Air: Clean Air Act 42 U.S.C. 7401-7671(q).

3. Migratory Bird Treaty Act [16 U.S.C. 703-712].

4. Historic and Cultural Resources: Section 106 of the National Historic Preservation Act of 1966, as amended [16 U.S.C. 470(aa)-11].

5. Social and Economic: Civil Rights Act of 1964 [42 U.S.C. 2000(d)-2000(d) (1)]; The Uniform Relocation Assistance Act and Real Property Acquisition Policies Act of 1970, as amended.

6. Hazardous Materials: Comprehensive Environmental response, Compensation, and Liability Act (CERCLA), 42 U.S.C. 9601-9675; Superfund Amendments and Reauthorization Act of 1986 (SARA);

7. Executive Orders: E.O. 11990 Protection of Wetlands; E.O. 11988 Floodplain Management; E.O. 12898 Federal Actions to Address Environmental Justice in Minority Populations and Low Income Populations; E.O. 11593 Protection and Enhancement of Cultural Resources; E.O. 13112 Invasive Species.

8. Endangered Species Act 16 U.S.C. 1531-1543.

9. Clean Water Act 33 U.S.C. 1251-1376.

(Catalog of Federal Domestic Assistance Program Number 20.205, Highway Planning and Construction. The regulations implementing Executive Order 12372 regarding intergovernmental consultation on Federal programs and activities apply to this program.)

Authority: 23 U.S.C. 139(l)(1).

Shawn Oliver,
Environmental Team Leader, Federal Highway Administration, Sacramento, California.

[FR Doc. 2017-14927 Filed 7-14-17; 8:45 am]

BILLING CODE 4910-RY-P